DEPARTMENT OF LABOR

Employment and Training Administration

[TA-W-61,409]

Delphi Corporation, Powertrain Operations, Including On-Site Leased Workers From Trison Business Solutions, Inc. and Bartech, Rochester, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 8, 2007, applicable to workers of Delphi Corporation, Powertrain Operations, Rochester, New York. The notice was published in the Federal Register on June 22, 2007 (72 FR 34482).

At the request of the State agency, the Department reviewed the certification for workers of the subject firm. The workers are engaged in the production of fuel systems and emission components; specifically cruse control housings, integrated air fuel modules, canisters, linear exhaust gas recyclers throttle bodies and pressure regulators.

New information shows that workers leased from Trison Business Solutions, Inc. and Bartech were employed on-site at the Rochester, New York location of Delphi Corporation, Powertrain Operations. The Department has determined that these workers were sufficiently under the control of the subject firm to be considered leased workers.

Based on these findings, the Department is amending this certification to include leased workers from Trison Business Solutions, Inc. and Bartech working on-site at the Powertrain Operation, Rochester, New York location of the subject firm.

The amended notice applicable to TA-W-61,409 is hereby issued as follows:

“All workers of Delphi Corporation, Powertrain Operations, including on-site leased workers from Trison Business Solutions, Inc. and Bartech, Rochester, New York, who became totally or partially separated from employment on or after April 24, 2006, through June 8, 2009, are eligible to apply for adjustment assistance under Section 223 of the Trade Act of 1974, and are also eligible to apply for alternative trade adjustment assistance under Section 246 of the Trade Act of 1974.”

Signed at Washington, DC, this 19th day of September 2008.
Linda G. Poole,
Certifying Officer, Division of Trade Adjustment Assistance.

[FR Doc. E8-22401 Filed 9-23-08; 8:45 am]

BILLING CODE 4510-FN-P